SECURITIES AND EXCHANGE COMMISSION

[Release No. 34-76186; SR-NYSEArca-2015-02]

Self-Regulatory Organizations; NYSE Arca, Inc.; Notice of Withdrawal of a Proposed Rule Change, as Modified by Amendment No. 1 Thereto, To Amend NYSE Arca Equities Rule 8.600 To Adopt Generic Listing Standards for Managed Fund Shares

October 19, 2015.

On February 17, 2015, NYSE Arca, Inc. (“Exchange”) filed with the Securities and Exchange Commission (“Commission”), pursuant to Section 19(b)(1) of the Securities Exchange Act of 1934 (“Act”) ¹ and Rule 19b-4 thereunder,² a proposed rule change to amend NYSE Arca Equities Rule 8.600 to adopt generic listing standards for Managed Fund Shares. The proposed rule change was published for comment in the Federal Register on March 10, 2015.³ On April 17, 2015, pursuant to Section 19(b)(2) of the Act,⁴ the Commission designated a longer period within which to either approve the proposed rule change, disapprove the proposed rule change, or institute proceedings to determine whether to disapprove the proposed rule change.⁵ On June 3, 2015, the Exchange filed Amendment No. 1 to the proposed rule change. On June 11, 2015, the Commission published a notice of filing of Amendment No. 1 to the proposed rule change and an order instituting proceedings under Section 19(b)(2)(B) of the Act ⁶ to determine whether to approve or disapprove the proposed rule change, as modified by Amendment No. 1 thereto.⁷ On September 2, 2015, pursuant to Section 19(b)(2) of the Act,⁸ the Commission designated a longer period within which to either approve or disapprove the proposed rule change.⁹

¹ 15 U.S.C. 78s(b)(1).

² 17 CFR 240.19b-4.

³ See Securities Exchange Act Release No. 74433 (Mar. 4, 2015), 80 FR 12690.

⁴ 15 U.S.C. 78s(b)(2).

⁵ See Securities Exchange Act Release No. 74755, 80 FR 22762 (Apr. 23, 2015). The Commission determined that it was appropriate to designate a longer period within which to take action on the proposed rule change so that it has sufficient time to consider the proposed rule change and the comments received. Accordingly, the Commission designated June 8, 2015 as the date by which it should approve, disapprove, or institute proceedings to determine whether to disapprove the proposed rule change.

⁶ 15 U.S.C. 78s(b)(2)(B).

⁷ See Securities Exchange Act Release No. 75115 (Jun. 5, 2015), 80 FR 33309.

⁸ 15 U.S.C. 78s(b)(2).

⁹ See Securities Exchange Act Release No. 75813, 80 FR 54330 (Sept. 9, 2015). The Commission designated November 5, 2015 as the date by which the Commission should either approve or disapprove the proposed rule change.

On October 13, 2015, the Exchange withdrew the proposed rule change (SR-NYSEArca-2015-02), as modified by Amendment No. 1 thereto.

For the Commission, by the Division of Trading and Markets, pursuant to delegated authority.¹⁰
¹⁰ 17 CFR 200.30-3(a)(57).
Robert W. Errett,
Deputy Secretary.

[FR Doc. 2015-26910 Filed 10-22-15; 8:45 am]

BILLING CODE 8011-01-P